FEDERAL COMMUNICATIONS COMMISSION

47 CFR Part 73

[DA 03-766; MB Docket No. 03-64; RM-10672]

Radio Broadcasting Services; Lamont and McFarland, CA

AGENCY: Federal Communications Commission.

ACTION: Proposed rule.

SUMMARY: This document requests comments on a Petition for Rule Making filed by Dana J. Puopolo proposing the allotment of Channel 247A to Lamont, California, as that community's first local service. In order to accommodate this allotment, the Petitioner also proposes the substitution of Channel 282A for vacant Channel 247A at McFarland, California. Channel 247A can be allotted to Lamont, California, consistent with the minimum distance separation requirement of the Commission's Rules, provided there is a site restriction of 6.5 kilometers (4.1 miles) southeast of the community. The reference coordinates for Channel 247A at Lamont are 35-12-23 North Latitude and 118-52-51 West Longitude. Channel 282A can also be allotted to McFarland, California, in conformity with Commission's Rules, provided there is a site restriction 10.3 kilometers (6.4 miles) west of the community. The reference coordinates for Channel 282A at McFarland are 35-40-16 North Latitude and 119-20-30 West Longitude.

DATES: Comments must be filed on or before May 5, 2003, and reply comments on or before May 20, 2003.

ADDRESSES: Federal Communications Commission, 445 Twelfth Street, SW., Washington, DC 20554. In addition to filing comments with the FCC, interested parties should serve the petitioner, as follows: Dana J. Puopolo, 2134 Oak Street, Unit C, Santa Monica, CA 90405.

FOR FURTHER INFORMATION CONTACT: Rolanda F. Smith, Media Bureau, (202) 418-2180.

SUPPLEMENTARY INFORMATION: This is a summary of the Commission's Notice of Proposed Rule Making, MB Docket No. 03-64, adopted March 12, 2003, and released March 14, 2003. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC, 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under California, is amended by adding Lamont, Channel 247A and by removing Channel 247A and by adding Channel 282A at McFarland.

Federal Communications Commission.
John A. Karousos,
Assistant Chief, Audio Division, Media Bureau.

[FR Doc. 03-7467 Filed 3-27-03; 8:45 am]

BILLING CODE 6712-01-P